DEPARTMENT OF JUSTICE

Notice of Lodging of Proposed Supplemental Consent Decree Under the Comprehensive Environmental Response, Compensation, and Liability Act

On May 31, 2022, the Department of Justice lodged a proposed Supplemental Consent Decree with the United States District Court for the District of Massachusetts in United States and Commonwealth of Massachusetts v. AVX Corp. et al., Civil Action Nos. 83-3882-Y and 83-3889-Y (D. Mass.).

On February 27, 1984, the United States filed a complaint against Cornell Dubilier Electronics, Inc. (“CDE”), among other defendants, in accordance with Sections 106 and 107 of the Comprehensive Environmental Response, Compensation, and Liability Act of 1980 (“CERCLA”), as amended, seeking injunctive relief, natural resource damages, and reimbursement of response costs incurred or to be incurred for hazardous substances at the New Bedford Harbor Superfund Site, in Bristol County, Massachusetts (the “Site”). On February 28, 1984, the Commonwealth of Massachusetts also filed a complaint against CDE, among others parties, under Section 107 of CERCLA, seeking abatement, natural resource damages, and reimbursement of response actions taken or to be taken at or in connection with the release or threatened release of hazardous substances at the Site. The United States and Massachusetts entered into a consent decree with CDE in 1992. The 1992 consent decree resolved CDE's liability subject to the governments' ability to further pursue claims under a reservation of rights set forth in paragraph 17 of the 1992 consent decree, authorizing the governments to seek additional relief based on unknown conditions or new information (“reopener”). The proposed Supplemental Consent Decree supplements the 1992 consent decree by requiring CDE to make a cash payment to resolve CDE's liability for response costs and injunctive relief under Sections 106 and 107 of CERCLA and certain claims arising under state law, arising from the reopener set forth in Paragraph 17 of the 1992 consent decree.

Under the terms of the Supplemental Consent Decree, CDE will pay $4 million, plus applicable interest, toward the cleanup of the New Bedford Harbor Site (in addition to the approximately $21 million CDE already paid under the 1992 consent decree). CDE's $4 million payment amount was based upon a determination that CDE had limited financial ability to pay for response costs incurred and to be incurred at the Site. CDE's $4 million payment will be split between the United States and the Commonwealth. Specifically, CDE will pay the United States $3.6 million, and CDE will pay the Commonwealth $400,000. The governments have agreed to resolve their claims for all response costs and injunctive relief without new “reopeners” under Sections 106 and 107 of the CERCLA. The governments retain their rights to additional relief for natural resource damages pursuant to a reservation of rights in the 1992 consent decree.

Relatedly, on May 31, 2022, the United States and State of New Jersey lodged a $4 million ability-to-pay consent decree in the United States District Court for the District of New Jersey in United States et al. v. Cornell Dubilier Electronics, Inc., Civil Action No. 2:22-cv-03245 (D.N.J.), relating to the Woodbrook Road Dump Superfund Site in South Plainfield, New Jersey. This consent decree, along with the Supplemental Consent Decree, resolve CDE's liability for response costs in connection with both the Woodbrook Road Site and New Bedford Harbor Site, respectively.

The publication of this notice opens a period for public comment on the Supplemental Consent Decree. Comments should be addressed to the Assistant Attorney General, Environment and Natural Resources Division, and should refer to United States and Commonwealth of Massachusetts v. AVX Corp. et al., Civil Action Nos. 83-3882-Y and 83-3889-Y (D. Mass.), D.J. Ref. No. 90-11-2-32/5. All comments must be submitted no later than sixty (60) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Supplemental Consent Decree may be examined and downloaded at this Justice Department website: https://www.justice.gov/enrd/consent-decrees. We will provide a paper copy of the proposed modification upon written request and payment of reproduction costs. Please mail your request and payment to: Consent Decree Library, U.S. DOJ—ENRD, P.O. Box 7611, Washington, DC 20044-7611.

Please enclose a check or money order for $18.75 (25 cents per page reproduction cost) payable to the United States Treasury.

Henry S. Friedman,
Assistant Section Chief, Environmental Enforcement Section, Environment and Natural Resources Division.

[FR Doc. 2022-12064 Filed 6-3-22; 8:45 am]

BILLING CODE 4410-15-P